DEPARTMENT OF STATE

[Delegation of Authority No. 236-7]

Re-Delegation by the Assistant Secretary of State for Educational and Cultural Affairs to the Deputy Assistant Secretary for Policy and Evaluation of Authority Under Section 102 of the Mutual Educational and Cultural Exchange Act of 1961, as Amended

By virtue of the authority vested in me as the Assistant Secretary of State for Educational and Cultural Affairs, including by Delegation of Authority No. 236-3, dated August 28, 2000, and Section 2(e)(2) of Delegation of Authority No. 293-2, dated October 23, 2011, and to the extent permitted by law, I hereby re-delegate to the Deputy Assistant Secretary for Policy and Evaluation, Bureau of Educational and Cultural Affairs, the functions in section 102 of the Mutual Educational and Cultural Exchange Act of 1961, as amended (22 U.S.C. 2452) relating to the provision by grant, contract or otherwise for a wide variety of educational and cultural exchanges.

This Delegation of Authority does not supersede or otherwise affect any other delegation of authority currently in effect. The functions and authorities re-delegated herein may not be further delegated without my approval.

Any reference in this Delegation of Authority to any statute or delegation of authority shall be deemed to be a reference to such statute or delegation of authority as amended from time to time.

This Delegation of Authority shall be published in the Federal Register.

Dated: March 31, 2016.
Evan Ryan,
Assistant Secretary for Educational and Cultural Affairs, U.S. Department of State.

[FR Doc. 2016-11279 Filed 5-11-16; 8:45 am]

BILLING CODE 4710-05-P